DEPARTMENT OF LABOR

Employment and Training Administration

[TA-W-61,931]

Tyco Electronics Including On-Site Leased Workers From Kelly Staffing and Diversco East Berlin, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 4, 2007, applicable to workers of Tyco Electronics, including on-site leased workers of Kelly Staffing, East Berlin, Pennsylvania. The notice was published in the Federal Register on October 17, 2007 (72 FR 58898).

At the request of the State agency, the Department reviewed the certification for workers of the subject firm. The workers are engaged in the production of electronic connectors.

New information shows that leased workers of Diversco were employed on-site at the East Berlin, Pennsylvania, location of Tyco Electronics. The Department has determined that these workers were sufficiently under the control of the subject firm to be considered leased workers.

Based on these findings, the Department is amending this certification to include leased workers of Diversco working on-site at the East Berlin, Pennsylvania, location of the subject firm.

The intent of the Department's certification is to include all workers employed at Tyco Electronics who were adversely affected by increased imports of electronic connectors.

The amended notice applicable to TA-W-61,931 is hereby issued as follows:

“All workers of Tyco Electronics, including on-site leased workers from Kelly Staffing and Diversco, East Berlin, Pennsylvania, who became totally or partially separated from employment on or after August 2, 2006, through October 4, 2009, are eligible to apply for adjustment assistance under Section 223 of the Trade Act of 1974, and are also eligible to apply for alternative trade adjustment assistance under Section 246 of the Trade Act of 1974.”

Signed at Washington, DC, this 27th day of June 2008.
Linda G. Poole,
Certifying Officer, Division of Trade Adjustment Assistance.

[FR Doc. E8-15859 Filed 7-11-08; 8:45 am]

BILLING CODE 4510-FN-P